NATIONAL SCIENCE FOUNDATION

Notice of Permit Modification Received Under the Antarctic Conservation Act of 1978

AGENCY: National Science Foundation.

ACTION: Notice of permit modification request.

SUMMARY: The National Science Foundation (NSF) is required to publish a notice of requests to modify permits issued to conduct activities regulated under the Antarctic Conservation Act of 1978. This is the required notice of a requested permit modification.

DATES: Interested parties are invited to submit written data, comments, or views with respect to this permit application by October 30, 2024. Permit applications may be inspected by interested parties at the Permit Office, address below.

ADDRESSES: Comments should be addressed to Permit Office, Office of Polar Programs, National Science Foundation, 2415 Eisenhower Avenue, Alexandria, Virginia 22314.

FOR FURTHER INFORMATION CONTACT: Andrew Titmus, ACA Permit Officer, Office of Polar Programs, National Science Foundation, 2415 Eisenhower Avenue, Alexandria, VA 22314; 703-292-4479; or ACApermits@nsf.gov.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas as requiring special protection. The regulations establish such a permit system to designate Antarctic Specially Protected Areas.

Description of Permit Modification Requested: The Foundation issued a permit (ACA 2023-004) to Steve Emslie on July 27, 2022. The issued permit allows for take and harmful interference associated with research examining ecological responses in diet and foraging behavior of the Adelie penguin (Pygoscelis adeliae) in Antarctica. The permit holder may collect up to 150 ancient and modern penguin tissues per year at active and abandoned penguin colonies in the Ross Sea region. The permit holder may enter ASPAs 104, 105, 106, 121, 124, 159, 161, and 165. A recent modification to this permit, dated June 25, 2024, permitted the applicant to also enter ASPA 178 in association with this research.

Now the applicant proposes a modification to the permit to collect small tissue samples from Weddell, Crabeater, Southern Elephant, and Leopard mummified seal carcasses in the Ross Sea Region. The applicant proposes to take up to 10 samples from each species. Mummies would be samples in the field, at their original location and samples weighing less than 15g would be taken from the mouth, lung, and anal area. Samples will undergo RNA analysis, radiocarbon dating, and any remaining tissue will be archived at the University of South Carolina. The applicant has a pending Marine Mammal Protection Act permit under consideration for this research.

Location: Ross Sea Region.

Dates: October 31, 2024-December 31, 2025.

Alina Pavao,
Administrative Assistant, Office of Polar Programs.

[FR Doc. 2024-22288 Filed 9-27-24; 8:45 am]

BILLING CODE 7555-01-P